DEPARTMENT OF TRANSPORTATION

Federal Aviation Administration

[Docket No.: FAA-2024-1724]

Airport Investment Partnership Program

AGENCY: Federal Aviation Administration (FAA), DOT.

ACTION: Notice of availability of the Record of Decision for the participation of Avon Park Executive Airport, Highlands County, Avon Park, Florida, in the Airport Investment Partnership Program (AIPP).

SUMMARY: The FAA has approved the Final Application by the City of Avon Park, Avon Park, Florida (City), for Avon Park Executive Airport to participate in AIPP. Three exemptions were issued from certain provisions of Federal law. The Application procedures require the FAA to approve the Final Application to permit exemptions after review of all documents necessary to comply with laws and regulations within the FAA's jurisdiction.

DATES: The Record of Decision was signed on October 29, 2024. The City will lease Avon Park Executive Airport to Florida Airport Management KAVO, L.L.C., (FAM KAVO) in accordance with the Lease Agreement.

ADDRESSES: The Record of Decision is available for public review under Docket Number 2023-1724, on the internet at https://www.regulations.gov, and on the FAA's website at https://www.faa.gov/airports/airport_compliance/privatization.

FOR FURTHER INFORMATION CONTACT: Michael Helvey, Director, Airport Compliance and Management Analysis, ACO-1, Federal Aviation Administration, 800 Independence Avenue SW, Washington, DC 20591, telephone (202) 267-3085.

SUPPLEMENTARY INFORMATION:

Introduction and Background

Title 49 of the U.S. Code, section 47134, establishes the AIPP and authorizes the Secretary of Transportation, and through delegation, the FAA Administrator (Administrator), to exempt a sponsor of a public use airport that has received Federal assistance, from certain Federal requirements in connection with the privatization of the airport by sale or lease to a private party. Specifically, per section 47134(b)(1) the Administrator may exempt the sponsor from all or part of the requirements to use airport revenues for airport-related purposes, (in the case of a non-primary airport, after the airport has consulted with at least 65 percent of the owners of aircraft based at that airport). If the exemption under section 47134(b)(1) is granted, the Administrator shall exempt the sponsor from the obligation to pay back a portion of Federal grants upon the sale or lease of an airport, or to return airport property deeded by the Federal Government upon transfer of the airport. If the exemption under section 47134(b)(1) is granted, the Administrator shall exempt the private purchaser or lessee from the requirement to use all airport revenues for airport-related purposes, to the extent necessary to permit the purchaser or lessee to earn compensation from the operations of the airport.

On April 20, 2021, the FAA issued a notice of procedures to be used in applications for exemptions under the AIPP (86 FR 20586).

On July 7, 2023, the City and FAM KAVO filed the AIPP Final Application for the privatization of Avon Park Executive Airport (Docket Number 2023-1724). The Final Application provides for the lease of Avon Park Executive Airport to FAM KAVO, and to operate the airport as a public-use general aviation facility.

On September 22, 2023, the FAA published in the Federal Register a Notice of Receipt of the Final Application of Avon Park Executive Airport; commencement of a 60 day public view and comment period (88 FR 65422). The Notice made known the availability of the Final Application for Avon Park Executive Airport for public view and comment. Comments were requested by November 21, 2023.

The FAA received five comments in response to the Notice. The FAA's response to the comments is included as an attachment to the Record of Decision.

On October 29, 2024, the FAA signed the Record of Decision approving the participation of the Avon Park Executive Airport in the AIPP.

Issued in Washington, DC, on October 29, 2024.
Michael Helvey,
Director, Office of Airport Compliance and Management Analysis.

[FR Doc. 2024-26190 Filed 11-12-24; 8:45 am]

BILLING CODE 4910-13-P